DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed new collection of a module of questions about well-being, to follow the American Time Use Survey in 2012. A copy of the proposed information collection request (ICR) can be obtained by contacting the individual listed below in the ADDRESSES section of this notice.

DATES: Written comments must be submitted to the office listed in the ADDRESSES section of this notice on or before September 12, 2011.

ADDRESSES: Send comments to Carol Rowan, BLS Clearance Officer, Division of Management Systems, Bureau of Labor Statistics, Room 4080, 2 Massachusetts Avenue, NE., Washington, DC 20212. Written comments also may be transmitted by fax to 202-691-5111 (this is not a toll free number).

FOR FURTHER INFORMATION CONTACT: Carol Rowan, BLS Clearance Officer, at 202-691-7628 (this is not a toll free number). (See ADDRESSES section.)

SUPPLEMENTARY INFORMATION:

I. Background

The ATUS is the Nation's first Federally administered, continuous survey on time use in the United States. It measures, for example, time spent with children, working, sleeping, or doing leisure activities. In the United States, several existing Federal surveys collect income and wage data for individuals and families, and analysts often use such measures of material prosperity as proxies for quality of life. Time-use data substantially augment these quality-of-life measures. The data also can be used in conjunction with wage data to evaluate the contribution of non-market work to national economies. This enables comparisons of production between nations that have different mixes of market and non-market activities.

The ATUS develops nationally representative estimates of how people spend their time. Respondents also report who was with them during activities, where they were, how long each activity lasted, and if they were paid. All of this information has numerous practical applications for sociologists, economists, educators, government policymakers, businesspersons, health researchers, and others.

II. Current Action

Office of Management and Budget clearance is being sought for a 2012 Well-being Module of questions to follow the American Time Use Survey (ATUS). The Well-being Module, if approved, will collect information about how people experience their time, specifically how happy, tired, sad, stressed, and in pain they felt yesterday. Respondents will be asked these questions about three randomly-selected activities from the activities reported in the ATUS time diary. The time diary refers to the core part of the ATUS, in which respondents report the activities they did from 4 a.m. on the day before the interview to 4 a.m. on the day of the interview. A few activities, such as sleeping and private activities, will never be selected. The module also will collect data on whether people were interacting with anyone while doing the selected activities and how meaningful the activities were to them. Some general health questions, a question about overall life satisfaction, and a question about respondents' overall emotional experience yesterday also will be asked.

The data from the proposed Well-being Module will support the BLS mission of providing relevant information on economic and social issues. The data will provide a richer description of work; specifically, it will measure how workers feel (tired, stressed, in pain) during work episodes compared to non-work episodes, and how often workers interact on the job. It can also measure whether the amount of pain workers experience varies by occupation and disability status.

The data also will closely support the mission of the module's sponsor, the National Institute on Aging (NIA) of the National Institutes of Health, to improve the health and well-being of older Americans. By analyzing the module data, the experience of pain and aging can be studied. Some of the questions that can be answered include:

• Do older workers experience more pain on and off the job?

• Is the age-pain gradient related to differences in activities or differences in the amount of pain experienced during a given set of activities?

• Do those in poor health spend time in different activities?

Additionally, the proposed module will allow researchers to take advantage of an important change that was made to the ATUS in 2011. Questions that identify eldercare providers and eldercare activities were added to the survey. The well-being of eldercare providers is of interest to the NIA and policymakers because the elderly population is growing, along with a reliance on informal care providers to assist them. A 2012 Well-being Module would allow researchers to study the well-being of eldercare providers.

The proposed Well-being Module is nearly identical to a module that was collected in 2010 under the ATUS OMB Number (1220-0175); however, the 2012 version includes two additional questions and will be collected under a new OMB Number as a supplement to the ATUS. These new questions will collect data on individuals' overall life satisfaction and their emotional experience yesterday. Information about life satisfaction will complement the moment-to-moment affect measures of well-being and provide an additional dimension to analyses of these data. Information about individuals' overall emotional experience yesterday will be used to explain variance in responses to the affect questions.

The proposed Well-being Module will follow directly after the 2012 ATUS. ATUS collection is done on a continuous basis with the sample drawn monthly. The survey sample is drawn from households completing their final month of interviews for the Current Population Survey (CPS). Households are selected to ensure a representative demographic sample, and one individual from each household is selected to take part in one Computer Assisted Telephone Interview. The interview asks respondents to report all of their activities for one pre-assigned 24-hour day, the day prior to the interview. A short series of summary questions and CPS updates follows the core time diary collection.

The proposed questions about well-being are being sponsored by the NIA. These questions will replace a module of questions about leave that is being fielded for the 2011 calendar year. Like the 2011 Leave Module, the proposed 2012 Well-being Module also will be included for 12 months (through December 2012).

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: New collection.

Agency: Bureau of Labor Statistics.

Title: American Time Use Survey.

OMB Number: 1220-NEW.

Affected Public: Individuals or households.

Total Respondents: 13,200.

Frequency: Monthly.

Total Responses: 13,200.

Average Time per Response: 5 minutes.

Estimated Total Burden Hours: 1,100 hours.

Total Burden Cost (capital/startup): $0.

Total Burden Cost (operating/maintenance): $0.

Comments submitted in response to this notice will be summarized and/or included in the request for Office of Management and Budget approval of the information collection request; they also will become a matter of public record.

Signed at Washington, DC, this 7th day of July 2011.
Kimberley Hill,
Chief, Division of Management Systems, Bureau of Labor Statistics.

[FR Doc. 2011-17521 Filed 7-12-11; 8:45 am]

BILLING CODE 4510-24-P